DEPARTMENT OF AGRICULTURE

Forest Service

Forest Resource Coordinating Committee

AGENCY: Forest Service, USDA.

ACTION: Notice of meeting.

SUMMARY: The Forest Resource Coordinating Committee (Committee) will meet in Washington, DC. The Committee is established consistent with the Federal Advisory Committee Act of 1972 (FACA), and the Food, Conservation, and Energy Act of 2008 (the Act). Committee information can be found at the following Web site at http://www.fs.fed.us/spf/coop/frcc/.

DATES: The meeting will be held on the following dates and time:

• Wednesday, June 21, 2017, from 8:00 a.m. to 5:00 p.m., and

• Thursday, June 22, 2017, from 8:00 a.m. to 5:00 p.m.

All meetings are subject to cancellation. For status of the meeting prior to attendance, please contact the person listed under FOR FURTHER INFORMATION CONTACT.

ADDRESSES: The meeting will be held at the U.S. Forest Service Headquarters, 201 14th Street, Southwest, Second Floor, Leopold Training Room, Washington, DC. For anyone who would like to attend via teleconference, please visit the Web site listed in the SUMMARY section or contact Scott Stewart at sstewart@fs.fed.us for further details.

Written comments may be submitted as described under SUPPLEMENTARY INFORMATION. All comments, including names and addresses when provided, are placed in the record and are available for public inspection and copying. The public may inspect comments placed on the Committee's Web site listed above.

FOR FURTHER INFORMATION CONTACT: Scott Stewart, Designated Federal Officer, Cooperative Forestry Staff by telephone at 202-205-1618, or Nancy Stremple, Forest Resource Coordinating Committee Program Coordinator, Cooperative Forestry Staff by phone at 202-309-9873.

Individuals who use telecommunication devices for the deaf (TDD) may call the Federal Information Relay Service (FIRS) at 1-800-877-8339 between 8:00 a.m. and 8:00 p.m., Eastern Standard Time, Monday through Friday.

SUPPLEMENTARY INFORMATION: The purpose of the meeting is to:

1. Report out from Committee work groups,

2. Deliver educational presentations,

3. Perform administrative tasks, and

4. Develop annual recommendations.

The meeting is open to the public. The agenda will include time for people to make oral statements of three minutes or less. Individuals wishing to make an oral statement should submit a request in writing by June 14, 2017, to be scheduled on the agenda. Anyone who would like to bring related matters to the attention of the Committee may file written statements with the Committee staff before or after the meeting. Written comments and time requests for oral comments must be sent to Scott Stewart, 201 14th Street SW., Washington, DC 20024, or by email at sstewart@fs.fed.us. A summary of the meeting will be posted on the Web site listed above within 30 days after the meeting.

Meeting Accommodations: If you are a person requiring reasonable accommodation, please make requests in advance for sign language interpreting, assistive listening devices or other reasonable accommodation for access to the facility or proceedings by contacting the person listed in the section titled FOR FURTHER INFORMATION CONTACT. All reasonable accommodation requests are managed on a case by case basis.

Dated: March 31, 2017.
Jeanne M. Higgins,
Acting Associate Deputy Chief, National Forest System.

[FR Doc. 2017-07763 Filed 4-17-17; 8:45 am]

BILLING CODE 3411-15-P